DEPARTMENT OF THE TREASURY

Agency Information Collection Activities; Submission for OMB Review; Comment Request; Financial Crimes Enforcement Network (FinCEN)

AGENCY: Financial Crimes Enforcement Network, Department of the Treasury.

ACTION: Notice.

SUMMARY: The Department of the Treasury, as part of its continuing effort to reduce paperwork and respondent burden, invites the general public and other federal agencies to comment on proposed or continuing information collections, as required by the Paperwork Reduction Act of 1995.

DATES: Comments should be received on or before October 27, 2022 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Financial Crimes Enforcement Network (FinCEN)

Title: Information Sharing Between Government Agencies and Financial Institutions.

OMB Control Number: 1506-0049.

Abstract: FinCEN is issuing this notice to renew the OMB control number for regulations requiring information sharing between government agencies and financial institutions.

Affected Public: Businesses or other for-profit and non-profit institutions.

Type of Review: Extension of a currently approved collection.

Frequency: As required.

Estimated Number of Respondents: 14,960.

Estimated Annual Responses per Respondent: 365 searches/responses.

Estimated Reporting and Recordkeeping Burden: In general, FinCEN receives requests from law enforcement, reviews those requests, posts those requests on a secure internet website, and sends notifications to designated contacts within financial institutions across the United States once every two weeks. Financial institutions must query their records for data matches, including accounts maintained by the named subject during the preceding 12 months and transactions conducted within the last six months. Financial institutions have two weeks from the posting date of the request to respond with any positive matches. FinCEN estimates that it will take approximately 4 minutes to research and report, as necessary, each subject of a 314(a) request. FinCEN has been estimating a burden of 4 minutes per subject in PRA renewals since the expansion of the rule in 2010.

Estimated Burden Hours per Respondent: 24 hours annually.

Estimated Total Annual Burden Hours: 363,827.

Estimated Total Annual Cost: $34,563,565.

Authority: 44 U.S.C. 3501 et seq.

Melody Braswell,
Treasury PRA Clearance Officer.

[FR Doc. 2022-20820 Filed 9-26-22; 8:45 am]

BILLING CODE 4810-02-P